DEPARTMENT OF COMMERCE

International Trade Administration

[A-570-803]

Heavy Forged Hand Tools, Finished or Unfinished, With or Without Handles, From the People's Republic of China: Extension of Time Limit for the Preliminary Results of the Antidumping Duty Administrative Review

AGENCY: Import Administration, International Trade Administration, Department of Commerce.

SUMMARY: The Department of Commerce (“the Department”) is extending the time limit for the preliminary results of the review of Heavy Forged Hand Tools, Finished or Unfinished, With or Without Handles (“HFHTs”) from the People's Republic of China (“PRC”). This review covers the period February 1, 2004 through January 31, 2005.

EFFECTIVE DATE: October 28, 2005.

FOR FURTHER INFORMATION CONTACT: Hallie Noel Zink, AD/CVD Operations, Office 9, Import Administration, International Trade Administration, U.S. Department of Commerce, 14th Street and Constitution Avenue, NW., Washington DC 20230; telephone: (202) 482-3208.

SUPPLEMENTARY INFORMATION:

Statutory Time Limits

Section 751(a)(3)(A) of the Tariff Act of 1930, as amended (“the Act”), requires the Department of Commerce (“the Department”) to make a preliminary determination within 245 days after the last day of the anniversary month of an order for which a review is requested and a final determination within 120 days after the date on which the preliminary determination is published. However, if it is not practicable to complete the review within these time periods, section 751(a)(3)(A) of the Act allows the Department to extend the time limit for the preliminary determination to a maximum of 365 days after the last day of the anniversary month.

Background

On March 23, 2005, the Department published a notice of initiation of a review of HFHTs from the PRC covering the period February 1, 2004 through January 31, 2005. See Initiation of Antidumping and Countervailing Duty Administrative Reviews and Requests for Revocation in Part, 70 FR 14643 (March 23, 2005).

Extension of Time Limit of Preliminary Results

The Department determines that completion of the preliminary results of this review within the 245-day period is not practicable. This review covers four companies, and to conduct the sales and factor analyses for each requires the Department to gather and analyze a significant amount of information pertaining to each company's sales practices, manufacturing methods and corporate relationships. The Department also requires additional time in order to analyze complicated potential affiliation issues between some of the companies participating in this review.

Therefore, given the number and complexity of issues in this case, and in accordance with section 751(a)(3)(A) of the Act, we are extending the time period for issuing the preliminary results of review by 120 days until February 28, 2006. The final results continue to be due 120 days after the publication of the preliminary results.

Dated: October 21, 2005.
Gary Taverman,
Acting Deputy Assistant Secretary for Import Administration.

[FR Doc. E5-5985 Filed 10-27-05; 8:45 am]

BILLING CODE 3510-DS-S